DEPARTMENT OF EDUCATION

Privacy Act of 1974; System of Records

AGENCY: Office of the Chief Information Officer, Department of Education.

ACTION: Notice of altered and deleted systems of records under the Privacy Act of 1974.

SUMMARY: In accordance with the Privacy Act of 1974, as amended (Privacy Act), the Department of Education (Department) publishes this notice to amend the systems of records entitled “Debarment and Suspension Proceedings under Executive Order (EO) 12549, the Drug-Free Workplace Act, and the Federal Acquisition Regulation (FAR)” (18-03-01)(Debarment and Suspension Proceedings system) and “Education's Central Automated Processing System (EDCAPS)” (18-03-02). The Department deletes two systems of records entitled “Receivables Management System” (18-03-03) and the “Travel Manager System” (18-03-05) from its existing inventory of systems of records subject to the Privacy Act.

For the Debarment and Suspension Proceedings system, this notice updates the system location; the authority for maintenance of the system; the routine uses of records maintained in the system; the policies and practices for storing, retrieving, accessing, retaining, and disposing of records in the system (specifically the retention and disposal of system records); the safeguards that protect the records in the system; and the system managers and addresses.

For the EDCAPS system, this notice updates the system location; the categories of individuals covered by the system; the categories of records in the system; the authority for maintenance of the system; purposes of the system; the routine uses of records maintained in the system; the policies and practices for storing, retrieving, accessing, retaining, and disposing of records in the system; and the system managers and addresses.

The Department identifies the system of records “Receivables Management System” (18-03-03), as published in the Federal Register on June 4, 1999 (64 FR 30106, 30116-18) to be deleted because the records on individuals who are covered by this system of records are maintained in the Department's EDCAPS system of records (18-04-04). The Department also identifies the system of records “Travel Manager System” (18-03-05), as published in the Federal Register on February 7, 2002 (67 FR 5908-10), to be deleted because the Department migrated to the General Services Administration's (GSA's) Contracted Travel Services Program on October 2, 2006, and consequently the Department's system has been replaced by the GSA's Government wide system of records notice entitled “Contracted Travel Services Program” (GSA/GOVT-4), as published in the Federal Register on June 3, 2009 (74 FR 26700-702).

DATES: Submit your comments on this notice of altered and deleted systems of records on or before January 25, 2016.

The Department filed a report describing the alterations to the Debarment and Suspension Proceedings and the EDCAPS systems of records with the Chair of the Senate Committee on Homeland Security and Governmental Affairs, the Chair of the House Committee on Oversight and Government Reform, and the Administrator of the Office of Information and Regulatory Affairs, Office of Management and Budget (OMB) on [DRS/OGC WILL INSERT DATE TRANSMITTAL LETTERS ARE SENT]. The alterations to the Debarment and Suspension Proceedings and EDCAPS systems of records will become effective at the later date of (1) The expiration of the 40-day period for OMB review on [DRS WILL INSERT DATE 40 DAYS AFTER THE DATE TRANSMITTAL LETTERS ARE SENT], unless OMB waives 10 days of the 40-day review period for compelling reasons shown by the Department; or (2) January 25, 2016, unless the altered Debarment and Suspension Proceedings or EDCAPS systems of records needs to be changed as a result of public comment or OMB review.

ADDRESSES: Address all comments about the Debarment and Suspension Proceedings system to Philip A. Maestri, Director, Risk Management Service, Office of the Deputy Secretary, U.S. Department of Education, 400 Maryland Ave. SW., Washington, DC 20202-5970. If you prefer to send comments by email, use the following address: comments@ed.gov.

You must include the term “Debarment and Suspension Proceedings” in the subject line of your email.

Address all comments about the EDCAPS system to Greg Robison, Director, Financial Systems Services, Office of the Chief Information Officer (OCIO), U.S. Department of Education, 550 12th St. SW., PCP, Room 9150, Washington, DC 20202-1100. If you prefer to send comments by email, use the following address: comments@ed.gov.

You must include the term “EDCAPS” in the subject line of your email.

During and after the comment period, you may inspect all public comments about this notice at the U.S. Department of Education between the hours of 8:00 a.m. and 4:30 p.m., Eastern time, Monday through Friday of each week except Federal holidays. To inspect the public comments, contact the appropriate persons listed under FOR FURTHER INFORMATION CONTACT.

Assistance to Individuals With Disabilities in Reviewing the Rulemaking Record

On request we will provide an appropriate accommodation or auxiliary aid to an individual with a disability who needs assistance to review the comments or other documents in the public rulemaking record for this notice. To schedule an appointment for this type of aid, please contact the person listed under FOR FURTHER INFORMATION CONTACT.

FOR FURTHER INFORMATION CONTACT: For Debarment and Suspension Proceedings, Philip A. Maestri, Director, Risk Management Service, Office of the Deputy Secretary, U.S. Department of Education, 400 Maryland Ave. SW., Washington, DC 20202-5970. Telephone: (202) 245-8278.

For EDCAPS, Greg Robison, Director, Financial Systems Services, OCIO, U.S. Department of Education, 550 12th St. SW., PCP, room 9150, Washington, DC 20202-1100. Telephone: (202) 245-7187.

If you use a telecommunications device for the deaf (TDD) or text telephone (TTY), you may call the Federal Relay Service (FRS) at 1-800-877-8339.

SUPPLEMENTARY INFORMATION:

Introduction

The Privacy Act requires the Department to publish in the Federal Register this notice of altered and deleted systems of records (5 U.S.C. 552a(e)(4). The Department's regulations implementing the Privacy Act are contained in the Code of Federal Regulations (CFR) in 34 CFR part 5b.

The Privacy Act applies to a record about an individual that contains individually identifying information that is retrieved by a unique identifier associated with each individual, such as a name or Social Security number (SSN). The information about each individual is called a “record,” and the system, whether manual or computer based, is called a “system of records.”

Whenever the Department makes a significant change to an established system of records, the Privacy Act requires the Department to publish a notice of an altered system of records in the Federal Register and to prepare and send a report to the Chair of the Committee on Oversight and Government Reform of the House of Representatives, the Chair of the Committee on Homeland Security and Governmental Affairs of the Senate, and the Administrator of the Office of Information and Regulatory Affairs, OMB. These reports are intended to permit an evaluation of the probable effect of the proposal on the privacy rights of individuals.

A change to a system of records is considered to be a significant change that must be reported whenever an agency expands the types or categories of information maintained, significantly expands the number, types, or categories of individuals about whom records are maintained, changes the purpose for which the information is used, changes the equipment configuration in a way that creates substantially greater access to the records, or adds a routine use disclosure to the system.

DEBARMENT AND SUSPENSION PROCEEDINGS SYSTEM (18-03-01)

Since the last publication of the Debarment and Suspension Proceedings system of records in the Federal Register on June 4, 1999 (64 FR 30106, 30112-114), we have identified a number of technical changes that are needed to update and accurately describe the current system of records. Under EO 12549, Debarment and Suspension, executive departments and agencies participate in a system for debarment and suspension from programs and activities involving Federal financial or non-financial assistance and benefits. Debarment or suspension of a participant in a program by one agency has a Governmentwide effect. This system of records facilitates the performance by the Department of this statutory duty because it contains documents relating to debarment and suspension proceedings, including: Written referrals; notices of suspensions and proposed debarments; respondents' responses to notices and other communications between the Department and respondents; court documents, including indictments, information, judgments of conviction, plea agreements, prosecutorial offers of evidence to be produced at trial, pre-sentencing reports and civil judgments; intra-agency and inter-agency communications regarding proposed or completed debarments or suspensions; and records of any interim or final decisions, requests, or orders made by a deciding debarring or suspending official (DSO) or fact-finding DSO pursuant to EO 12549, the Drug-Free Workplace Act (41 U.S.C. 8101-06), and the FAR, 48 CFR subpart 9.4.

This notice alters the system of records to update: (1) The system locations to reflect the Department's decisions to move the general, non-procurement debarment and suspension records to the Grants Policy and Procedures Team, Risk Management Service, Office of the Deputy Secretary, U.S. Department of Education, 550 12th St. SW., Washington, DC 20202-1100 and to add the Office of Hearings and Appeals, Office of Management, U.S. Department of Education, 490 E. L'Enfant Plaza SW., Suite 2100A, Washington, DC 20202-4616, as a location of debarment and suspension records maintained on principals of institutions of higher education, principals of lenders, and principals of guarantee agencies; (2) the authority for maintenance of the system by inserting the correct CFR references (2 CFR parts 180 and 3485—OMB Guidelines and the Department's Regulations on Debarment and Suspension (Nonprocurement)) and 34 CFR part 84—Department's Regulations on the Requirements for Drug-Free Workplace (Financial Assistance); (3) the routine uses of records maintained in the system by adding a routine use to clarify that disclosures may be made in the course of the Department's debarment or suspension proceedings or in anticipation of such proceedings to any business entity, organization, individual, or the legal representative thereof who is involved in such proceedings; (4) the policies and practices for storing, retrieving, accessing, retaining, and disposing of records in the system, specifically by updating the paragraph on storage to include electronic records and a Web-based portal that are maintained by the Department's Office of Hearings and Appeals, Office of Management, and by adding the following text in the paragraph on the retention and disposal of system records: “Records relating to debarment and suspension actions under EO 12549 are retained in accordance with Department of Education Records Disposition Schedule No. 215, `Analysis and Inspection (A & I) Records' Item 4(c)). These records are retained for eight years from the end of the fiscal year in which the case is closed, and then they are destroyed. Records relating to all other debarment and suspension actions are currently unscheduled, pending approval of applicable records retention schedules by the National Archives and Records Administration (NARA). These records will not be destroyed until applicable NARA-approved records retention schedules are in effect”; (5) the safeguards for system to include safeguards that protect electronic records maintained by the Office of Hearings and Appeals and the Office of Management; and (6) the system managers and their addresses to reflect needed updates.

EDUCATION'S CENTRAL AUTOMATED PROCESSING SYSTEM (EDCAPS) (18-04-04)

Since the last publication of the EDCAPS system of records in the Federal Register on June 4, 1999 (64 FR 30106, 30114-16), a number of changes have been identified that are needed to update and accurately depict the current state of the system of records. The Department must maintain adequate and auditable financial and management records associated with the fiscal operations of the Department and other entities with contracting authority that use EDCAPS. The EDCAPS system of records supports the Department in this effort by: Facilitating the collecting, processing, maintaining, transmitting, and reporting of data about financial events; supporting financial planning and budgeting activities; accumulating and reporting cost information; and supporting the preparation of financial statements.

The changes in the notice for EDCAPS are numerous.

First, we are revising the system numbering and system location to reflect the renumbering of the system from 18-03-02 to 18-04-04 and to reflect the change in the office in charge of managing the system from the Office of the Chief Financial Officer to the Office of the Chief Information Officer and the changes in the locations of the Department's buildings.

Second, we are updating the paragraph in the EDCAPS notice describing the categories of individuals covered by the system to include:

• Peer reviewers.

• Individuals providing goods to the Department.

• Persons billed by the Department for materials and services (such as for Freedom of Information Act requests).

• Persons ordered by a court of law to pay restitution to the Department.

• Individuals who have received funds through the Rehabilitation Services Administration Scholarship program and who have not provided evidence of fulfilling their obligations under that program.

• Current and former Department employees who received overpayments and the overpayments have not been waived by the Department.

• Individuals who were overpaid or inappropriately paid under grant programs administered by the Department other than title IV of the Higher Education Act of 1965, as amended.

• Individuals against whom the Department has claims for Federal funds.

We are making these additions because the records on individuals who are covered by the Receivables Management System are maintained in EDCAPS and because OCIO is keeping peer reviewer information in EDCAPS.

Third, we are updating the paragraph in the EDCAPS notice describing the categories of records in the system to include: telephone number, a Taxpayer Identification Number (TIN), the Data Universal Numbering System (DUNS) Number provided by Dun & Bradstreet, date of birth, email address, and banking information. Some of these additions are items that were accidentally omitted from the original system of records notice, while others are additional records that were not collected when the original notice was published.

Fourth, we are updating the authority for maintenance of the EDCAPS system to include section 415 of the Department of Education Organization Act (P.L. 96-88, 20 U.S.C. 3475); 31 U.S.C. 3321 (note); 31 U.S.C. 3512 (including the note) and 3515; 31 U.S.C. 7504; 31 U.S.C. 902(a); EO 9397 (8 FR 16095) as amended by EO 13478 (73 FR 70239), and 31 U.S.C. 7701 (TIN); Statements of Federal Financial Accounting Standards issued by the Government Accountability Office, the U.S. Department of the Treasury, and the Office of Management and Budget; and 31 U.S.C. 3711-3720E. The original notice omitted these authorities. We are deleting the statutory citation to 44 U.S.C. 301 in the former notice because its inclusion was erroneous.

Fifth, we are expanding the purposes of the EDCAPS system to “maintain financial and management records associated with the fiscal operations of the Department and other entities with contracting authority that use EDCAPS.” The purposes have been updated as well to include investigating complaints, updating information, correcting errors and investigating fraud, preventing improper payments, carrying out the receivables management function and safeguarding public funds, preparing financial statements and other financial documents, and determining qualifications of individuals for selection as grant application peer reviewers.

We are also updating the purposes of the Financial Management Software System module to include a description of system capabilities to support these activities that did not exist when the original EDCAPS notice was published.

We are updating the Contracts and Purchasing Support System description to include a reference to a commercial software product used to provide the procurement functionality.

Finally, we are removing the description of the Recipient System since the Recipient System has been merged with the Grants Management System (G5), which was formally called Grants Administration and Payment System (GAPS).

Sixth, we are updating the routine uses of records maintained in the system to include a number of uses that are a combination of both standard routine uses that are included in most System of Record Notices across the Department, and unique routine uses that are needed for EDCAPS to function, and are relevant only to EDCAPS. These additions will permit the disclosure of records:

• To OMB for purposes of the Credit Reform Act, which was enacted to require agencies to provide a more realistic assessment of the cost of U.S. Government direct loans and loan guarantees;

• For employee grievance, complaint, disciplinary, or competency determination proceedings;

• To labor organizations for purposes of exclusive representation or to an arbitrator to resolve disputes under a negotiated grievance procedure;

• For research purposes when the Department determines that an individual or organization is qualified to carry out specific research concerning functions or purposes related to the system of records;

• To the U.S. Department of the Treasury or the Federal Reserve Bank to facilitate payments to payees of the Department or to prevent improper payments;

• To the U.S. Department of the Interior to facilitate payroll preparation;

• To private collection companies and Federal agencies to ensure the Department is able to meet its fiduciary responsibilities related to collecting monies legally owed to the Department, which were routine uses of the Receivables Management System (18-03-03); and

• To appropriate agencies, entities, and persons when (a) it is suspected or confirmed that the security or confidentiality of information in EDCAPS has been compromised, (b) there is a risk of harm to economic or property interests, identity theft or fraud, or harm to the security or integrity of EDCAPS or other systems or programs, and (c) the disclosure is made to such agencies, entities, and persons who are reasonably necessary to assist the Department in responding to the suspected or confirmed compromise and in preventing, minimizing, or remedying such harm.

Seventh, we are updating the policies and practices for storing, retrieving, accessing, retaining, and disposing of records in the system to include storage of data in hard copy and a computer database. We are also updating the description of safeguards to include additional security measures, including monitoring by security personnel and the certification and accreditation of the system's security posture. Further, we are updating the retention and disposal policy to comply with the General Records Schedule approved by the National Archives and Records Administration.

Eighth, we are updating the description of the system manager and the address of the system manager to reflect that there is only a single system manager.

Finally, we are updating the record source categories to add Federal, State, and local government agencies as entities from which the Department may receive records.

RECEIVABLES MANAGEMENT SYSTEM (18-03-03)

The Department identifies the system of records “Receivables Management System” (18-03-03), as published in the Federal Register on June 4, 1999 (64 FR 30106, 30116-18), to be deleted because the records on individuals who are covered by this system of records are maintained in the Department's EDCAPS system of records (18-04-04).

TRAVEL MANAGER SYSTEM (18-03-05)

The Department also identifies the system of records “Travel Manager System” (18-03-05), as published in the Federal Register on February 7, 2002 (67 FR 5908-10), to be deleted, because the Department migrated to the General Services Administration's (GSA's) Contracted Travel Services Program on October 2, 2006, and consequently the Department's system has been replaced by the GSA's Governmentwide system of records notice entitled “Contracted Travel Services Program” (GSA/GOVT-4), as published in the Federal Register on June 3, 2009 (74 FR 26700-702).

Accessible Format: Individuals with disabilities can obtain this document in an accessible format (e.g., braille, large print, audiotape, or compact disc) on request to the contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of the Department published in the Federal Register, in text or Adobe Portable Document Format (PDF). To use PDF you must have Adobe Acrobat Reader, which is available free at the site.

You may also access documents of the Department by using the article search feature at: www.federalregister.gov. Specifically, through the advanced search feature at this site, you can limit your search to documents published by the Department.

Dated: December 14, 2015.
Danny A. Harris,
Chief Information Officer, Office of the Chief Information Officer.

For the reasons discussed in the preamble, the Chief Information Officer of the U.S. Department of Education (Department) deletes, amends, or alters the following systems of records:

DELETED SYSTEMS:

SYSTEM NUMBER | SYSTEM NAME
18-03-03 | Receivables Management System
18-03-05 | Travel Manager System

AMENDED SYSTEM:

18-03-01

SYSTEM NAME:

Debarment and Suspension Proceedings under Executive Order (EO) 12549, the Drug-Free Workplace Act, and the Federal Acquisition Regulation (FAR).

SECURITY CLASSIFICATION:

None.

SYSTEM LOCATION:

For records regarding debarment and suspension actions under:

Federal Acquisition Regulation, 48 Code of Federal Regulations (CFR), part 9, subpart 9.4—Debarment: Office of the Chief Financial Officer, U.S. Department of Education, 550 12th St. SW., Washington, DC 20202-1100.

EO 12549—Debarment and Suspension (General): Grants Policy and Procedures Team, Risk Management Service, Office of the Deputy Secretary, U.S. Department of Education, 550 12th St. SW., Washington, DC 20202-1100.

EO 12549—Debarment and Suspension (For certified public accountants (CPAs) or principals of a CPA firm): Audit Services, Office of Inspector General, U.S. Department of Education, 100 Penn Square East, Philadelphia, PA 19107-3323.

EO 12549—Debarment and Suspension (For principals of institutions of higher education, principals of lenders, or principals of guarantee agencies): Administrative Actions and Appeals Division, Office of Federal Student Aid, U.S. Department of Education, 830 First Street NE., Washington, DC 20202-5353 and Office of Hearings and Appeals, Office of Management, U.S. Department of Education, 490 E. L'Enfant Plaza SW., Suite 2100A, Washington, DC 20202-4616.

CATEGORIES OF INDIVIDUALS COVERED BY THE SYSTEM:

The system covers principals undergoing debarment or suspension proceedings and principals that have been debarred or suspended under either EO 12549, the Drug-Free Workplace Act, title IV of the Higher Education Act of 1965, as amended (HEA), or the Federal Acquisition Regulation. For the purposes of EO 12549, and the Drug-Free Workplace Act, the term “principal” is defined in the Department's regulations at 2 CFR 3485.995 and includes an officer, director, owner, partner, or other person who is in a position to handle Federal funds, or influence or control those funds or occupies a professional or technical position capable of substantially influencing the development or outcome of an activity required to perform a covered transaction. For purposes of transactions made under title IV of the HEA, the term “principal” also includes a third-party servicer and any person who provides services described in 34 CFR 668.2 or 682.200 to a title IV, HEA participant, whether or not that person is retained or paid directly by the title IV, HEA participant. A “participant” is defined in 2 CFR 180.980 as any person who submits a proposal for, or who enters into, a covered transaction, including an agent or representative of a participant. A “covered transaction” is a transaction described in 2 CFR part 180, subpart B, and the Department's regulations in 2 CFR 3485.220. This system of records covers contractors who are undergoing debarment or suspension proceedings or who have been debarred or suspended. Contractors covered by this system of records are individuals who meet the definition of “contractor” under 48 CFR 9.403, including individuals who directly or indirectly submit offers for or are awarded, or may reasonably be expected to submit offers for or be awarded, a government contract, or who conduct business, or may reasonably be expected to conduct business with the Department as an agent or representative of another contractor. Finally, this system covers individuals receiving grants or contracts subject to requirements under the Drug-Free Workplace Act who are undergoing debarment or suspension proceedings or who have been debarred or suspended.

CATEGORIES OF RECORDS IN THE SYSTEM:

This system of records contains documents relating to debarment and suspension proceedings, including: Written referrals, notices of suspensions and proposed debarments, respondents' responses to notices and other communications between the Department and respondents, court documents, including indictments, information, judgments of conviction, plea agreements, prosecutorial offers of evidence to be produced at trial, pre-sentencing reports and civil judgments, intra-agency and inter-agency communications regarding proposed or completed debarments or suspensions, and records of any interim or final decisions, requests, or orders made by a deciding debarring or suspending official (DSO) or fact-finding DSO pursuant to EO 12549, the Drug-Free Workplace Act, and the FAR, 48 CFR subpart 9.4.

AUTHORITY FOR MAINTENANCE OF THE SYSTEM:

EO 12549, Debarment and Suspension (3 CFR 1986 Comp., p. 189); EO 12689 (3 CFR 1989 Comp., p. 235); the Federal Acquisition Streamlining Act of 1994, Pub. L. 103-355, title II, section 2455, 108 Stat. 3327 (31 U.S.C. 6101 note); 2 CFR part 180—the Office of Management and Budget Guidelines and 2 CFR part 3485; Departmental Directive for Nonprocurement Debarment and Suspension, Administrative Communications System Directive ODS: 1-101 (Directive); 20 U.S.C. 1082, 1094, 1221e-3, and 3474; the Drug-Free Workplace Act of 1988, as amended (41 U.S.C. 8101-8106); 34 CFR part 84—Department's Regulations on the Requirements for Drug-Free Workplace (Financial Assistance); and the Federal Acquisition Regulation, 48 CFR subpart 9.4, Debarment, Suspension, and Ineligibility.

PURPOSE(S):

Information contained in this system of records is used to: (1) Protect the Federal Government from the actions of individuals that constitute grounds for debarment or suspension or both under the Department's debarment and suspension regulations, the Department's Drug-Free Workplace regulations, or the FAR; (2) make decisions regarding debarments and suspensions; and (3) ensure that participants and Federal agencies give effect to debarment or suspension decisions rendered by the Department.

ROUTINE USES OF RECORDS MAINTAINED IN THE SYSTEM, INCLUDING CATEGORIES OF USERS AND THE PURPOSE OF SUCH USES:

The Department may disclose information contained in a record in this system of records under the routine uses listed in this system of records without the consent of the individual if the disclosure is compatible with the purposes for which the record was collected. These disclosures may be made case by case or, if the Department has complied with the requirements of the Privacy Act of 1974, as amended (Privacy Act), under a computer matching agreement.

(1) Litigation or Alternative Dispute Resolution (ADR) Disclosure.

(a) In the event that one of the parties listed below is involved in litigation or ADR, or has an interest in litigation or ADR, the Department may disclose certain records to the parties described in paragraphs (b), (c), and (d) of this routine use under the conditions specified in those paragraphs:

(i) The Department or any component of the Department;

(ii) Any employee of the Department in his or her official capacity;

(iii) Any employee of the Department in his or her individual capacity where the Department of Justice (DOJ) has agreed or has been requested to provide or arrange for representation for the employee;

(iv) Any employee of the Department in his or her individual capacity where the Department has agreed to represent the employee; or

(v) The United States where the Department determines that the litigation is likely to affect the Department or any of its components.

(b) Disclosure to the Department of Justice. If the Department determines that disclosure of certain records to DOJ or attorneys engaged by the DOJ is relevant and necessary to judicial or administrative litigation or ADR and is compatible with the purpose for which the records were collected, the Department may disclose those records as a routine use to DOJ.

(c) Adjudicative Disclosure. If the Department determines that disclosure of certain records to an adjudicative body before which the Department is authorized to appear or to an individual or entity designated by the Department or otherwise empowered to resolve or mediate disputes is relevant and necessary to judicial or administrative litigation or ADR and is compatible with the purposes for which the records were collected, the Department may disclose those records as a routine use to the adjudicative body, individual, or entity.

(d) Disclosure to Parties, Counsel, Representatives, and Witnesses. If the Department determines that disclosure of certain records to a party, counsel, representative, or witness is relevant and necessary to judicial or administrative litigation or ADR and is compatible with the purpose for which the records were collected, the Department may disclose those records as a routine use to the party, counsel, representative, or witness.

(2) Disclosure to the General Services Administration. The Department makes information contained in this system of records available to the General Services Administration for inclusion in the System for Award Management (SAM). SAM incorporates all records from the Excluded Parties List System (EPLS), the prior record-keeping system for suspension and debarment information. This list may be accessed via the Internet at www.sam.gov/portal/public/SAM.

(3) Disclosure to the Public. The Department provides information to the public about individuals who have been debarred or suspended by the Department to enforce debarment and suspension actions.

(4) Enforcement Disclosure. In the event that information in this system of records indicates, either on its face or in connection with other information, a violation or potential violation of any applicable statute, regulation, or order of a competent authority, the relevant records in the system of records may be referred, as a routine use, to the appropriate agency, whether foreign, Federal, State, tribal, or local, charged with the responsibility of investigating or prosecuting such violation or charged with enforcing or implementing the statute, or executive order or rule, regulation, or order issued pursuant thereto.

(5) Freedom of Information Act or Privacy Act Advice Disclosure. In the event the Department deems it prudent or necessary, in determining whether particular records are required to be disclosed under the Freedom of Information Act or the Privacy Act, disclosure may be made to the Department of Justice or the Office of Management and Budget for the purpose of obtaining advice.

(6) Contract Disclosure. If the Department contracts with an entity for the purpose of performing any function that requires disclosure of records in this system to employees of the contractor, the Department may disclose the records as a routine use to those employees. Before entering into such a contract, the Department shall require the contractor to maintain Privacy Act safeguards as required under 5 U.S.C. 552a(m) with respect to the records in the system.

(7) Research Disclosure. Where an appropriate official of the Department determines that an individual or organization is qualified to carry out specific research related to the functions or purposes of this system of records, that official may disclose information from this system of records to that researcher solely for the purpose of carrying out the research related to the functions or purposes of this system of records. The researcher shall be required to maintain Privacy Act safeguards with respect to the disclosed records.

(8) Congressional Member Disclosure. The Department may disclose records to a member of Congress from the record of an individual in response to an inquiry from the member made at the written request of that individual. The member's right to the information is no greater than the right of the individual who requested it.

(9) Disclosure in the Course of Responding to Breach of Data. The Department may disclose records to appropriate agencies, entities, and persons when (a) it is suspected or confirmed that the security or confidentiality of information in this system has been compromised; (b) the Department has determined that as a result of the suspected or confirmed compromise there is a risk of harm to economic or property interests, identity theft or fraud, or harm to the security or integrity of this system or other systems or programs (whether maintained by the Department or by another agency or entity) that rely upon the compromised information; and (c) the disclosure is made to such agencies, entities, and persons who are reasonably necessary to assist the Department in responding to the suspected or confirmed compromise and in preventing, minimizing, or remedying such harm.

(10) Disclosure in the Course of the Department's Debarment or Suspension Proceedings or in Anticipation of Such Proceedings. The Department may disclose records to any business entity, organization, or individual who is involved in the Department's debarment or suspension proceedings or who is anticipated to be involved in such proceedings, or to the legal representative thereof.

POLICIES AND PRACTICES FOR STORING, RETRIEVING, ACCESSING, RETAINING, AND DISPOSING OF RECORDS IN THE SYSTEM:

STORAGE:

Paper records are kept in file folders in locked file cabinets. Electronic records are kept in a computer database and on a Web-based portal maintained by the Department.

RETRIEVABILITY:

Records are indexed by the names of the individuals and by docket numbers.

SAFEGUARDS:

All physical access to the sites where this system of records are maintained is controlled and monitored by security personnel who check each individual entering the building for his or her employee badge. Paper files are kept in locked file cabinets. Immediate access to these records is restricted to authorized staff. The computer database maintained by the Office of Hearings and Appeals, Office of Management, is accessible only to authorized persons and is password-protected and utilizes security hardware and software. The Web-based portal that is operated by the Office of Hearings and Appeals, Office of Management, however, is accessible to anyone with access to the Internet.

Access to records in this system is only available to authorized users. Management approves all access, roles and responsibilities. Users outside of the internal functional team have no access to personally identifiable information. Strict access to production and reporting databases is enforced. Intrusion detection, user recertification, and vulnerability scans are performed on access and databases.

RETENTION AND DISPOSAL:

Records relating to debarment and suspension actions under EO 12549 are retained in accordance with Department of Education Records Disposition Schedule (ED/RDS) Part 16, Item 4(c). These records are retained for eight years from the end of the fiscal year in which the case is closed and then destroyed. Records relating to all other debarment and suspension actions are currently unscheduled, pending approval of applicable records retention schedules by the National Archives and Records Administration (NARA). These records will not be destroyed until applicable NARA-approved records retention schedules are in effect.

SYSTEM MANAGER(S) AND ADDRESS(ES):

Senior Procurement Executive, Office of the Chief Financial Officer, U.S. Department of Education, 550 12th St. SW., Washington, DC 20202-1100.

Director, Risk Management Service, Office of the Deputy Secretary, U.S. Department of Education, 550 12th St. SW., Washington, DC 20202-1100.

Non-Federal Audit Director, Office of Inspector General, U.S. Department of Education, 100 Penn Square East, Philadelphia, PA 19107-3323.

Director, Administrative Actions and Appeals Division, Office of Federal Student Aid, U.S. Department of Education, 830 First Street NE., Washington, DC 20202-5353.

Director, Office of Hearings and Appeals, Office of Management, U.S. Department of Education, 490 E. L'Enfant Plaza SW., Suite 2100A, Washington, DC 20202-4616.

NOTIFICATION PROCEDURE:

If an individual wishes to determine whether a record exists regarding him or her in this system of records, the individual must contact the system manager. Requests for notification about an individual record must meet the requirements of the regulations in 34 CFR 5b.5.

RECORD ACCESS PROCEDURES:

If an individual wishes to gain access to a record in this system, he or she must contact the system manager and provide information as described in the notification procedure. Requests for access to an individual's record must meet the requirements of the regulations in 34 CFR 5b.5. Consistent with 5 U.S.C. 552a(d)(5), the Department retains the discretion not to disclose records to an individual during the course of a debarment or suspension proceeding against the individual.

CONTESTING RECORD PROCEDURES:

If an individual wishes to change the content of a record in the system of records, he or she must contact the system manager with the information described in the notification procedure, identify the specific item(s) to be changed, and provide a written justification for the change, including any supporting documentation. Requests to amend a record must meet the requirements of the regulations in 34 CFR 5b.7.

RECORD SOURCE CATEGORIES:

Sources for records in this system include: Department employees involved in the management of grants, contracts, and agreements; the investigative inspection and audit files maintained by the Department's Office of Inspector General; other organizations or persons that may have relevant information regarding participants and their principals; and participants, principals, contractors, or other individuals undergoing or who have undergone debarment and suspension proceedings.

EXEMPTIONS CLAIMED FOR THE SYSTEM:

None.

AMENDED SYSTEM:

18-04-04

SYSTEM NAME:

Education's Central Automated Processing System (EDCAPS).

SECURITY CLASSIFICATION:

None.

SYSTEM LOCATION:

Electronic Data Records: Dell System's Plano Technology Center, 2300 West Plano Parkway, Plano, TX 75075-8427 and Dell System's Florence Technology Center, 7190 Industrial Road, Florence, KY 41022-2908 (contractor).

See the Appendix at the end of this notice for additional system locations.

CATEGORIES OF INDIVIDUALS COVERED BY THE SYSTEM:

Categories of individuals covered by the system include employees of the Department of Education (Department), consultants, contractors, grantees, advisory committee members, peer reviewers, and other individuals receiving funds from the Department for performing services for and providing goods to the Department.

Other categories of individuals covered by the system include:

• Persons billed by the Department for materials and services such as Freedom of Information Act requests and computer tapes of statistical data.

• Persons ordered by a court of law to pay restitution to the Department.

• Individuals who have received funds through the Rehabilitation Services Administration (RSA) Scholarship program and who have not provided evidence of fulfilling their obligations under that program.

• Current and former Department employees who received overpayments and the overpayments have not been waived by the Department.

• Individuals who were overpaid or inappropriately paid under grant programs administered by the Department other than Title IV of the Higher Education Act of 1965, as amended.

• Claims against individuals, including orders by a court or other authority to make restitution, for the misuse of Federal funds in connection with any program administered by the Department.

Student loan repayment records and records maintained by the Department's Office of Hearings and Appeals in either its debt management tracking system or on its Web-based system displaying final agency decisions are not covered under this notice.

Although EDCAPS contains information about institutions associated with individuals, the purposes for which the Department collects and maintains information under this system of records, and its usage of this information, pertains only to individuals protected under the Privacy Act of 1974, as amended (Privacy Act) (5 U.S.C. 552a).

CATEGORIES OF RECORDS IN THE SYSTEM:

Records in this system contain the individual's name and address, telephone number, Taxpayer Identification Number (TIN), the Data Universal Numbering System (DUNS) number provided by Dun & Bradstreet, Social Security number (SSN), date of birth, email address, banking information, eligibility codes, detailed and summary obligation data, reports of expenditures, and grant management data, including application and close-out information. Documents maintained in the system include, but are not limited to, activity logs, copies of checks, contracts, court orders, letters of notice, promissory notes, telephone logs, peer reviewer resumes, and related correspondence.

AUTHORITY FOR MAINTENANCE OF THE SYSTEM:

Authority for maintenance of the system includes section 415 of the Department of Education Organization Act (P.L. 96-88, 20 U.S.C. 3475); 31 U.S.C. 3321 (note); 31 U.S.C. 3512 (including the note) and 3515; 31 U.S.C. 7504; 31 U.S.C. 902(a); Executive Order (EO) 9397 (8 FR 16095), as amended by EO 13478 (73 FR 70239), and 31 U.S.C. 7701 (TIN); Statements of Federal Financial Accounting Standards issued by the Government Accountability Office, the U.S. Department of the Treasury, and the Office of Management and Budget; 31 U.S.C. 3711-3720E.

PURPOSE(S):

The purpose of EDCAPS is to maintain financial and management records associated with the fiscal operations of the Department and other entities with contracting authority that use EDCAPS.

Records are used for, but not limited to, the following:

• Managing grant and contract awards.

• Making payments.

• Accounting for goods and services provided and received.

• Enforcing eligibility requirements and conditions in awards and U.S. law relating to transactions covered by this system.

• Defending the Department in actions relating to transactions covered by this system.

• Investigating complaints.

• Updating information.

• Correcting errors, investigating fraud, and preventing improper payments.

• Performing the receivables management function and safeguarding public funds.

• Preparing financial statements and other financial documents.

• Determining qualifications of individuals for selection as grant application peer reviewers.

The EDCAPS financial management system consists of a suite of applications including:

Financial Management Software System (FMSS)

The FMSS module of EDCAPS is the Department's official general ledger. It is the central piece of the Department's integrated financial management system. FMSS includes functionality for budget planning and execution, funds control, receipt management, administrative payment management, loan servicing, and internal and external reporting. FMSS interfaces with a variety of other EDCAPS systems such as the Grants Management System (G5), Contracts and Purchasing Support System (CPSS), and eTRAVEL. The Travel Management System (TMS) is covered under an existing General Services Administration (GSA) Governmentwide system of records notice entitled “Contracted Travel Services Program” (GSA/GOVT-4).

Grants Management System (G5)

The purpose of G5 is to administer grants and cooperative agreements and record decisions related to grants, from planning through closeout, including disbursing funds to grant recipients for most Department programs and recording non-financial administrative actions involving grants under those programs. G5 records individual payments in real time, and summary payment data is posted to FMSS in a nightly batching process. Payment information is retrievable in G5 by DUNS number as required under Office of Management and Budget (OMB) guidance to agencies. The name, mailing address, and other characteristic data related to Federal grants or institutional loans are also maintained.

Contract and Purchasing Support System (CPSS)

CPSS supports the contract pre- and post-award process and purchasing. It interfaces with FMSS at the detail level for fund control, general ledger, accounts payable, and accounts receivable. A commercial software package is used to provide CPSS functionality.

ROUTINE USES OF RECORDS MAINTAINED IN THE SYSTEM, INCLUDING CATEGORIES OF USERS AND THE PURPOSE OF SUCH USES:

The Department of Education may disclose information contained in a record in this system of records under the routine uses listed in this system of records without the consent of the individual if the disclosure is compatible with the purposes for which the record was collected. These disclosures may be made on a case-by-case basis or, if the Department has complied with the requirements of the Privacy Act, under a computer matching agreement.

(1) Litigation or Alternative Dispute Resolution (ADR) Disclosure.

(a) In the event that one of the parties listed below is involved in litigation or ADR proceedings, or has an interest in litigation or ADR, the Department may disclose certain records to the parties described in paragraphs (b), (c), and (d) of this routine use under the conditions specified in those paragraphs:

(i) The Department or any component of the Department;

(ii) Any employee of the Department in his or her official capacity;

(iii) Any employee of the Department in his or her individual capacity where the Department of Justice (DOJ) has agreed to or has been requested to represent the employee;

(iv) Any employee of the Department in his or her individual capacity where the Department has agreed to represent the employee; or

(v) The United States where the Department determines that the litigation is likely to affect the Department or any of its components.

(b) Disclosure to the Department of Justice (DOJ). If the Department determines that disclosure of certain records to DOJ is relevant and necessary to judicial or administrative litigation or ADR and is compatible with the purposes for which the records were collected, the Department may disclose those records as a routine use to DOJ.

(c) Adjudicative Disclosure. If the Department determines that disclosure of certain records to an adjudicative body before which the Department is authorized to appear or to an individual or entity designated by the Department or otherwise empowered to resolve or mediate disputes is relevant and necessary to judicial or administrative litigation or ADR, and is compatible with the purposes for which the records were collected, the Department may disclose those records as a routine use to the adjudicative body, individual, or entity.

(d) Disclosure to Parties, Counsel, Representatives, and Witnesses. If the Department determines that disclosure of certain records to a party, counsel, representative, or witness is relevant and necessary to judicial or administrative litigation or ADR, and is compatible with the purposes for which the records were collected, the Department may disclose those records as a routine use to the party, counsel, representative, or witness.

(2) Disclosure to OMB for Credit Reform Act (CRA) Purposes. The Department may disclose individually identifiable information maintained in this system of records to OMB as needed to fulfill CRA requirements.

(3) Employee Grievance, Complaint, or Conduct Disclosure. The Department may disclose records in this system of records to another agency of the Federal Government if the record is relevant to one of the following proceedings regarding a present or former employee of the Department: a grievance, a complaint, or a disciplinary or competency determination proceeding of another agency of the Federal government.

(4) Labor Organization Disclosure. Records under this routine use may be disclosed to an arbitrator to resolve disputes under a negotiated grievance procedure or to officials of labor organizations recognized under 5 U.S.C. chapter 71 when relevant and necessary to their duties of exclusive representation.

(5) Research Disclosure. Where an appropriate official of the Department determines that an individual or organization is qualified to carry out specific research related to the functions or purposes of this system of records, that official may disclose information from this system of records to that researcher solely for the purpose of carrying out the research related to the functions or purposes of this system of records. The researcher shall be required to maintain Privacy Act safeguards with respect to these records.

(6) Freedom of Information Act (FOIA) or Privacy Act Advice Disclosure. In the event the Department deems it desirable or necessary, in determining whether the FOIA or the Privacy Act requires the disclosure of records, disclosure may be made to DOJ or OMB for the purpose of obtaining advice.

(7) Contract Disclosure. If the Department contracts with an entity for the purposes of performing any function that requires disclosure of records in this system to employees of the contractor, the Department may disclose the records as a routine use to those employees. Before entering into such a contract, the Department shall require the contractor to maintain Privacy Act safeguards as required under 5 U.S.C. 552a(m) with respect to the records in the system.

(8) Enforcement Disclosure. In the event that information in this system of records indicates, either on its face or in connection with other information, a violation or potential violation of any applicable statute, regulation, or order of a competent authority, the relevant records in the system of records may be referred, as a routine use, to the appropriate agency, whether foreign, Federal, State, tribal, or local, charged with the responsibility of investigating or prosecuting such violation or charged with enforcing or implementing the statute, or executive order or rule, regulation, or order issued pursuant thereto.

(9) Congressional Member Disclosure. The Department may disclose records to a member of Congress from the record of an individual in response to an inquiry from the member made at the written request of that individual. The member's right to the information is no greater than the right of the individual who requested it.

(10) Payment Disclosure. The Department may disclose records to the U.S. Department of the Treasury or the Federal Reserve Bank as necessary to facilitate payments to Departmental payees against the Department's funds or to prevent improper payments.

(11) Payroll Disclosure. The Department may disclose records to the U.S. Department of the Interior for employee payroll preparation.

(12) Disclosure for Receivables Management. The Department may disclose records to credit agencies and Federal agencies to verify the identity and location of the debtor. The Department may also make disclosures to credit agencies, educational and financial institutions, and various Federal, State, or local agencies to enforce the terms of a loan where disclosure is required by Federal law. Finally, the Department may also make disclosures of records under this routine use to the U.S. Department of the Treasury and other Federal agencies for debt servicing and collection.

(13) Disclosure in the Course of Responding to Breach of Data. The Department may disclose records to appropriate agencies, entities, and persons when (a) it is suspected or confirmed that the security or confidentiality of information in EDCAPS has been compromised; (b) the Department has determined that as a result of the suspected or confirmed compromise there is a risk of harm to economic or property interests, identity theft or fraud, or harm to the security or integrity of EDCAPS or other systems or programs (whether maintained by the Department or by another agency or entity) that rely upon the compromised information; and (c) the disclosure is made to such agencies, entities, and persons who are reasonably necessary to assist the Department in responding to the suspected or confirmed compromise and in preventing, minimizing, or remedying such harm.

DISCLOSURE TO CONSUMER REPORTING AGENCIES:

Disclosures pursuant to 5 U.S.C. 552a(b)(12): The Department may disclose to a consumer reporting agency information regarding a claim by the Department which is determined to be valid and overdue as follows: (1) The name, address, TIN, and other information necessary to establish the identity of the individual responsible for the claim; (2) the amount, status, and history of the claim; and (3) the program under which the claim arose. The Department may disclose the information specified in this paragraph under 5 U.S.C. 552a(b)(12) and the procedures contained in 31 U.S.C. 3711(e). A consumer reporting agency to which these disclosures may be made is defined in 31 U.S.C. 3701(a)(3).

POLICIES AND PRACTICES FOR STORING, RETRIEVING, ACCESSING, RETAINING, AND DISPOSING OF RECORDS IN THE SYSTEM:

STORAGE:

Records are maintained on hard copy, magnetic tapes, and computer servers.

RETRIEVABILITY:

Records are indexed by name, or other individual identifier, and TIN. The records are retrieved by a manual or computer search by indices.

SAFEGUARDS:

All physical access to the sites of the Department and the Department's contractor, where this system of records is maintained, are controlled and monitored by security personnel. Direct access to the computer system employed by the Department is restricted to authorized Department staff performing official duties. Authorized staff members are assigned passwords that must be used for access to computerized data. Also, an additional password is necessary to gain access to the system. The system-access password is changed frequently. The Department's information system's security posture has been certified and accredited in accordance with applicable Federal standards.

RETENTION AND DISPOSAL:

Records in EDCAPS are retained in accordance with Department of Education Records Disposition Schedule ED 254 (N1-441-11-001).

SYSTEM MANAGER(S) AND ADDRESS:

The EDCAPS manager is the Director, Financial Systems Services, Office of the Chief Information Officer, U.S. Department of Education, 550 12th St. SW., Washington, DC 20202-1100.

NOTIFICATION PROCEDURE:

If an individual wishes to determine whether a record pertaining to the individual is in the system of records, he or she should contact the appropriate system manager. Requests by an individual for notification must meet the requirements in the regulations in 34 CFR 5b.5.

RECORD ACCESS PROCEDURES:

If an individual wishes to gain access to a record in this system, he or she should contact the appropriate system manager and provide information as described in the notification procedure. Requests by an individual for access to a record must meet the requirements in the regulations in 34 CFR 5b.5.

CONTESTING RECORD PROCEDURES:

If an individual wishes to change the content of a record pertaining to the individual that is contained in the system of records, he or she should contact the appropriate system manager with the information described in the notification procedure, identify the specific items requested to be changed, and provide a justification for such change. A request to amend a record must meet the requirements in the regulations in 34 CFR 5b.7.

RECORD SOURCE CATEGORIES:

Information in this system is obtained from electronic or paper versions of applications seeking Department contracts, grants, or loans at the time of application. Information is also obtained from Department program offices, employees, consultants, Federal, State, and local government agencies, and other entities performing services for the Department.

EXEMPTIONS CLAIMED FOR THE SYSTEM:

None.

Appendix to 18-04-04

The Financial Management Software System, the Contracts and Purchasing Support System, and the Grants Management System (G5) are all maintained by the Financial Systems Services, Office of the Chief Information Officer, U.S. Department of Education, 550 12th St. SW., Washington, DC 20202-1100.

All locations of the U.S. Department of Education. For information about these locations see http://www2.ed.gov/about/contacts/gen/index.html.

[FR Doc. 2015-32501 Filed 12-23-15; 8:45 am]

BILLING CODE 4000-01-P